DEPARTMENT OF TRANSPORTATION

Federal Aviation Administration

14 CFR Part 97

[Docket No. 30987; Amdt. No. 3616]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 3, 2014. The compliance date for each SIAP, associated Takeoff Minimums, and ODP is specified in the amendatory provisions.

The incorporation by reference of certain publications listed in the regulations is approved by the Director of the Federal Register as of December 3, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125), telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFRs and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on October 24, 2014.
John Duncan,
Director, Flight Standards Service.

Adoption of the Amendment

Accordingly, pursuant to the authority delegated to me, Title 14, Code of Federal Regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
13-Nov-14 | AL | Bessemer | Bessemer | 4/8101 | 09/29/14 | This NOTAM, published in TL 14-24, is hereby rescinded in its entirety.
13-Nov-14 | AL | Bessemer | Bessemer | 4/8102 | 09/29/14 | This NOTAM, published in TL 14-24, is hereby rescinded in its entirety.
11-Dec-14 | CO | Denver | Denver Intl | 4/0657 | 10/15/14 | RNAV (RNP) Z RWY 7, Orig.
11-Dec-14 | CO | Denver | Denver Intl | 4/0658 | 10/15/14 | ILS OR LOC RWY 16R, Amdt 1.
11-Dec-14 | CO | Denver | Denver Intl | 4/0659 | 10/15/14 | RNAV (RNP) Z RWY 35R, Orig.
11-Dec-14 | CO | Denver | Denver Intl | 4/0660 | 10/15/14 | RNAV (RNP) Z RWY 17L, Orig.
11-Dec-14 | CO | Denver | Denver Intl | 4/0661 | 10/15/14 | ILS OR LOC RWY 17R, Amdt 3.
11-Dec-14 | CO | Denver | Denver Intl | 4/0663 | 10/15/14 | RNAV (GPS) Y RWY 7, Amdt 1.
11-Dec-14 | CO | Denver | Denver Intl | 4/0665 | 10/15/14 | RNAV (RNP) Z RWY 34R, Orig.
11-Dec-14 | CO | Denver | Denver Intl | 4/0666 | 10/15/14 | ILS OR LOC RWY 17L, Amdt 4.
11-Dec-14 | CO | Denver | Denver Intl | 4/0668 | 10/15/14 | RNAV (RNP) Z RWY 26, Orig.
11-Dec-14 | CO | Denver | Denver Intl | 4/0669 | 10/15/14 | ILS OR LOC RWY 26, Amdt 3.
11-Dec-14 | CO | Denver | Denver Intl | 4/0670 | 10/15/14 | RNAV (GPS) Y RWY 26, Amdt 1.
11-Dec-14 | CO | Denver | Denver Intl | 4/0672 | 10/15/14 | RNAV (GPS) Y RWY 17L, Amdt 1.
11-Dec-14 | CO | Denver | Denver Intl | 4/0674 | 10/15/14 | RNAV (RNP) Z RWY 8, Orig.
11-Dec-14 | CO | Denver | Denver Intl | 4/0675 | 10/15/14 | RNAV (RNP) Z RWY 16R, Orig.
11-Dec-14 | CO | Denver | Denver Intl | 4/0676 | 10/15/14 | RNAV (RNP) Z RWY 25, Orig.-A.
11-Dec-14 | CO | Denver | Denver Intl | 4/0677 | 10/15/14 | RNAV (GPS) Y RWY 16R, Amdt 1.A.
11-Dec-14 | CO | Denver | Denver Intl | 4/0681 | 10/15/14 | ILS OR LOC RWY 25, Amdt 3.
11-Dec-14 | CO | Denver | Denver Intl | 4/0689 | 10/15/14 | ILS OR LOC RWY 7, Amdt 3.
11-Dec-14 | CO | Denver | Denver Intl | 4/0692 | 10/15/14 | RNAV (RNP) Z RWY 16L, Orig.
11-Dec-14 | CO | Denver | Denver Intl | 4/0693 | 10/15/14 | RNAV (GPS) Y RWY 34R, Amdt 2.
11-Dec-14 | CO | Denver | Denver Intl | 4/0700 | 10/15/14 | RNAV (GPS) Y RWY 16L, Amdt 1.
11-Dec-14 | CO | Denver | Denver Intl | 4/0701 | 10/15/14 | RNAV (RNP) Z RWY 17R, Orig.
11-Dec-14 | CO | Denver | Denver Intl | 4/0706 | 10/15/14 | RNAV (RNP) Z RWY 35L, Orig.
11-Dec-14 | CO | Denver | Denver Intl | 4/0708 | 10/15/14 | RNAV (RNP) Z RWY 34L, Orig.
11-Dec-14 | CO | Denver | Denver Intl | 4/0709 | 10/15/14 | RNAV (GPS) Y RWY 25, Amdt 1.
11-Dec-14 | CO | Denver | Denver Intl | 4/0710 | 10/15/14 | RNAV (GPS) Y RWY 8, Amdt 1.
11-Dec-14 | CO | Denver | Denver Intl | 4/0711 | 10/15/14 | RNAV (GPS) Y RWY 17R, Amdt 1.
11-Dec-14 | CO | Denver | Denver Intl | 4/0712 | 10/15/14 | RNAV (GPS) Y RWY 34L, Amdt 2A.
11-Dec-14 | CO | Denver | Denver Intl | 4/0717 | 10/15/14 | ILS OR LOC RWY 8, Amdt 5.
11-Dec-14 | CO | Denver | Denver Intl | 4/0720 | 10/15/14 | RNAV (GPS) Y RWY 35L, Amdt 2.
11-Dec-14 | CO | Denver | Denver Intl | 4/0726 | 10/15/14 | RNAV (GPS) Y RWY 35R, Amdt 2.
11-Dec-14 | CO | Denver | Denver Intl | 4/1303 | 10/15/14 | ILS OR LOC RWY 35R, ILS RWY 35R (SA CAT I), ILS RWY 35R (CAT II & III), Amdt 3.
11-Dec-14 | NY | Newburgh | Stewart Intl | 4/1478 | 10/14/14 | ILS OR LOC RWY 9, ILS RWY 9 (SA CAT I), ILS RWY 9 (CAT II & III), Amdt 1.3A.
11-Dec-14 | ME | Portland | Portland Intl Jetport | 4/1613 | 10/20/14 | RNAV (GPS) RWY 11, Amdt 3.
11-Dec-14 | TX | Houston | David Wayne Hooks Memorial | 4/1616 | 10/14/14 | RNAV (GPS) RWY 35L, Amdt 1.A
11-Dec-14 | TX | Houston | David Wayne Hooks Memorial | 4/1625 | 10/14/14 | RNAV (GPS) RWY 17R, Amdt 1.B.
11-Dec-14 | TX | Houston | David Wayne Hooks Memorial | 4/1630 | 10/14/14 | LOC RWY 17R, Amdt 3.
11-Dec-14 | ME | Oxford | Oxford County Rgnl | 4/1641 | 10/20/14 | RNAV (GPS) RWY 15, Orig.
11-Dec-14 | ME | Oxford | Oxford County Rgnl | 4/1642 | 10/20/14 | RNAV (GPS) RWY 33, Orig.
11-Dec-14 | MN | Duluth | Duluth Intl | 4/1926 | 10/09/14 | RNAV (GPS) RWY 27, Orig.-A.
11-Dec-14 | MN | Duluth | Duluth Intl | 4/1928 | 10/09/14 | RNAV (GPS) RWY 9, Amdt 1.A.
11-Dec-14 | MN | Duluth | Duluth Intl | 4/1931 | 10/09/14 | RNAV (GPS) RWY 3, Orig.
11-Dec-14 | MN | Duluth | Duluth Intl | 4/1932 | 10/09/14 | RNAV (GPS) RWY 21, Orig.
11-Dec-14 | TX | Waco | TSTC Waco | 4/2208 | 10/09/14 | NDB RWY 35R, Amdt 1.1A.
11-Dec-14 | MI | Grayling | Grayling AAF | 4/2434 | 10/09/14 | RNAV (GPS) RWY 14, Orig.-A.
11-Dec-14 | MI | Grayling | Grayling AAF | 4/2435 | 10/09/14 | VOR RWY 14, Amdt 2A.
11-Dec-14 | MI | Grayling | Grayling AAF | 4/2436 | 10/09/14 | NDB RWY 14, Amdt 8A.
11-Dec-14 | OR | Portland | Portland Intl | 4/2567 | 10/09/14 | RNAV (GPS) Y RWY 10L, Amdt 2A.
11-Dec-14 | TX | Arlington | Arlington Muni | 4/3497 | 10/09/14 | ILS OR LOC/DME RWY 34, Amdt 2A.
11-Dec-14 | TX | Arlington | Arlington Muni | 4/3498 | 10/09/14 | RNAV (GPS) RWY 34, Amdt 3A.
11-Dec-14 | AR | Manila | Manila Muni | 4/3588 | 10/15/14 | RNAV (GPS) RWY 36, Orig.
11-Dec-14 | CO | Denver | Denver Intl | 4/3669 | 10/15/14 | ILS OR LOC RWY 35L, ILS RWY 35L (SA CAT I), ILS RWY 35L (CAT II & III), Amdt 5.
11-Dec-14 | CO | Denver | Denver Intl | 4/3671 | 10/15/14 | ILS OR LOC RWY 34R, ILS RWY 34R (SA CAT I), ILS RWY 34R (CAT II & III), Amdt 3.
11-Dec-14 | CO | Denver | Denver Intl | 4/3673 | 10/15/14 | ILS OR LOC RWY 34L, ILS RWY 34L (SA CAT I), ILS RWY 34L (CAT II & CAT III), Amdt 2A.
11-Dec-14 | IA | Algona | Algona Muni | 4/4078 | 10/14/14 | RNAV (GPS) RWY 12, Orig.-A.
11-Dec-14 | IA | Algona | Algona Muni | 4/4080 | 10/14/14 | NDB RWY 12, Amdt 6A.
11-Dec-14 | IA | Clinton | Clinton Muni | 4/4081 | 10/14/14 | RNAV (GPS) RWY 21, Amdt 1.
11-Dec-14 | IA | Clinton | Clinton Muni | 4/4082 | 10/14/14 | RNAV (GPS) RWY 14, Amdt 1.
11-Dec-14 | IA | Maquoketa | Maquoketa Muni | 4/4083 | 10/14/14 | RNAV (GPS) RWY 15, Amdt 1.
12/11/2014 | IA | Cherokee | Cherokee County Rgnl | 4/4232 | 10/15/14 | RNAV (GPS) Z RWY 36, Orig.-A.
12/11/2014 | IA | Cherokee | Cherokee County Rgnl | 4/4234 | 10/15/14 | RNAV (GPS) Y RWY 36, Orig.
11-Dec-14 | IL | Chicago/Aurora | Aurora Muni | 4/4485 | 10/20/14 | RNAV (GPS) RWY 27, Amdt 1.
11-Dec-14 | AZ | Glendale | Glendale Muni | 4/4548 | 10/14/14 | RNAV (GPS) RWY 1, Orig.-B.
11-Dec-14 | IL | Chicago/Rockford | Chicago/Rockford Intl | 4/5088 | 10/20/14 | RNAV (GPS) RWY 25, Amdt 1.
11-Dec-14 | IN | Indianapolis | Hendricks County-Gordon Graham Fld | 4/5097 | 10/20/14 | RNAV (GPS) RWY 18, Amdt 1.
11-Dec-14 | IN | Jeffersonville | Clark Rgnl | 4/5277 | 10/20/14 | RNAV (GPS) RWY 18, Orig.
11-Dec-14 | IL | Canton | Ingersoll | 4/5299 | 10/20/14 | RNAV (GPS) RWY 36, Amdt 1.
11-Dec-14 | IL | Dixon | Dixon Muni-Charles R. Walgreen Field | 4/5367 | 10/20/14 | RNAV (GPS) RWY 8, Amdt 1.
11-Dec-14 | IL | Carmi | Carmi Muni | 4/5368 | 10/20/14 | RNAV (GPS) RWY 36, Orig.-A.
11-Dec-14 | IL | Centralia | Centralia Muni | 4/5385 | 10/20/14 | RNAV (GPS) RWY 18, Amdt 1.
11-Dec-14 | MN | Grand Marais | Grand Marais/Cook County | 4/5459 | 10/20/14 | RNAV (GPS) RWY 9, Orig.
11-Dec-14 | MN | Bigfork | Bigfork Muni | 4/5461 | 10/20/14 | RNAV (GPS) RWY 15, Orig.-A.
11-Dec-14 | MN | Bigfork | Bigfork Muni | 4/5462 | 10/20/14 | NDB RWY 15, Orig.-A.
11-Dec-14 | MN | Glenwood | Glenwood Muni | 4/5463 | 10/20/14 | RNAV (GPS) RWY 15, Orig.
11-Dec-14 | MN | Hutchinson | Hutchinson Muni-Butler Field | 4/5489 | 10/20/14 | RNAV (GPS) RWY 33, Orig.
11-Dec-14 | MN | Hutchinson | Hutchinson Muni-Butler Field | 4/5490 | 10/20/14 | VOR/DME RWY 33, Amdt 3.
11-Dec-14 | MN | Little Falls | Little Falls/Morrison County-Lindbergh Fld | 4/5492 | 10/20/14 | RNAV (GPS) RWY 31, Orig.
11-Dec-14 | MN | Little Falls | Little Falls/Morrison County-Lindbergh Fld | 4/5493 | 10/20/14 | NDB RWY 31, Amdt 6B.
11-Dec-14 | MN | Dodge Center | Dodge Center | 4/5494 | 10/20/14 | RNAV (GPS) RWY 34, Amdt 1.
11-Dec-14 | MN | Dodge Center | Dodge Center | 4/5495 | 10/20/14 | RNAV (GPS) RWY 16, Amdt 1.
11-Dec-14 | MO | Cape Girardeau | Cape Girardeau Rgnl | 4/5496 | 10/20/14 | LOC/DME BC RWY 28, Amdt 8.
11-Dec-14 | MO | Cape Girardeau | Cape Girardeau Rgnl | 4/5497 | 10/20/14 | RNAV (GPS) RWY 28, Amdt 1.
11-Dec-14 | MO | Cape Girardeau | Cape Girardeau Rgnl | 4/5498 | 10/20/14 | RNAV (GPS) RWY 2, Orig.
11-Dec-14 | MO | Houston | Houston Memorial | 4/5499 | 10/20/14 | RNAV (GPS) RWY 16, Orig.
11-Dec-14 | ND | Fargo | Hector Intl | 4/5549 | 10/16/14 | ILS OR LOC RWY 36, Amdt 1.
11-Dec-14 | ND | Fargo | Hector Intl | 4/5550 | 10/16/14 | RNAV (GPS) RWY 36, Orig.
11-Dec-14 | ND | Fargo | Hector Intl | 4/5551 | 10/16/14 | VOR OR TACAN RWY 36, Orig.-A.
11-Dec-14 | NE | Gordon | Gordon Muni | 4/5552 | 10/16/14 | NDB RWY 22, Amdt 4.
11-Dec-14 | NE | Kimball | Kimball Muni/Robert E Arraj Field | 4/5553 | 10/16/14 | RNAV (GPS) RWY 10, Amdt 1.
11-Dec-14 | OH | Barnesville | Barnesville-Bradfield | 4/5574 | 10/16/14 | RNAV (GPS) RWY 27, Orig.
11-Dec-14 | SD | Hot Springs | Hot Springs Muni | 4/5618 | 10/16/14 | RNAV (GPS) RWY 1, Orig.
11-Dec-14 | TX | College Station | Easterwood Field | 4/5626 | 10/16/14 | VOR OR TACAN RWY 10, Amdt 1.9B.
11-Dec-14 | TX | College Station | Easterwood Field | 4/5627 | 10/16/14 | RNAV (GPS) RWY 10, Amdt 1.A.
11-Dec-14 | TX | Cleveland | Cleveland Muni | 4/5639 | 10/16/14 | RNAV (GPS) RWY 16, Orig.
11-Dec-14 | TX | Winters | Winters Muni | 4/5647 | 10/16/14 | RNAV (GPS) RWY 35, Orig.
11-Dec-14 | TX | Childress | Childress Muni | 4/5653 | 10/16/14 | RNAV (GPS) RWY 36, Amdt 1.
11-Dec-14 | FL | West Palm Beach | Palm Beach Intl | 4/5656 | 10/20/14 | RNAV (RNP) Z RWY 32, Orig.-B.
11-Dec-14 | NY | Le Roy | Le Roy | 4/5658 | 10/20/14 | VOR A, Amdt 1.
11-Dec-14 | NY | Le Roy | Le Roy | 4/5659 | 10/20/14 | RNAV (GPS) RWY 10, Orig.
11-Dec-14 | TX | Cleburne | Cleburne Rgnl | 4/5681 | 10/16/14 | LOC/DME RWY 15, Orig.-D.
11-Dec-14 | TX | Cleburne | Cleburne Rgnl | 4/5682 | 10/16/14 | RNAV (GPS) RWY 15, Amdt 1.
11-Dec-14 | TX | Crockett | Houston County | 4/5684 | 10/16/14 | RNAV (GPS) RWY 20, Orig.-A.
11-Dec-14 | TX | Eastland | Eastland Muni | 4/5686 | 10/16/14 | RNAV (GPS) RWY 17, Orig.-A.
11-Dec-14 | TX | Wink | Winkler County | 4/5689 | 10/16/14 | RNAV (GPS) RWY 13, Amdt 1.
12/11/2014 | TX | Hearne | Hearne Muni | 4/5691 | 10/15/14 | RNAV (GPS) RWY 18, Orig.
11-Dec-14 | TX | Snyder | Winston Field | 4/5693 | 10/15/14 | RNAV (GPS) RWY 35, Amdt 1.
11-Dec-14 | TX | Sweetwater | Avenger Field | 4/5694 | 10/15/14 | RNAV (GPS) RWY 35, Orig.
11-Dec-14 | TX | Sweetwater | Avenger Field | 4/5695 | 10/15/14 | RNAV (GPS) RWY 4, Orig.
11-Dec-14 | WI | East Troy | East Troy Muni | 4/5702 | 10/15/14 | RNAV (GPS) RWY 26, Orig.
11-Dec-14 | PA | Carlisle | Carlisle | 4/5710 | 10/20/14 | RNAV (GPS)-C, Orig.
11-Dec-14 | WI | Milwaukee | General Mitchell Intl | 4/6266 | 10/20/14 | RNAV (GPS) RWY 1L, Amdt 1.B.
11-Dec-14 | WI | Milwaukee | General Mitchell Intl | 4/6268 | 10/20/14 | ILS OR LOC RWY 19R, Amdt 1.2.
11-Dec-14 | WI | Milwaukee | General Mitchell Intl | 4/6269 | 10/20/14 | RNAV (GPS) RWY 19R, Amdt 2.
11-Dec-14 | WI | Milwaukee | General Mitchell Intl | 4/6270 | 10/20/14 | ILS OR LOC RWY 7R, Amdt 1.6.
11-Dec-14 | WI | Milwaukee | General Mitchell Intl | 4/6271 | 10/20/14 | RNAV (RNP) Y RWY 7R, Orig.
11-Dec-14 | WI | Milwaukee | General Mitchell Intl | 4/6277 | 10/20/14 | RNAV (GPS) Z RWY 7R, Amdt 1.B.
11-Dec-14 | CA | Lompoc | Lompoc | 4/6673 | 10/20/14 | RNAV (GPS) RWY 25, Amdt 1.
11-Dec-14 | CO | Monte Vista | Monte Vista Muni | 4/6674 | 10/20/14 | GPS RWY 20, Orig.
11-Dec-14 | ID | Gooding | Gooding Muni | 4/6675 | 10/20/14 | NDB RWY 25, Amdt 1.
11-Dec-14 | ID | Gooding | Gooding Muni | 4/6677 | 10/20/14 | RNAV (GPS) RWY 25, Orig.
11-Dec-14 | MO | Cape Girardeau | Cape Girardeau Rgnl | 4/6744 | 10/20/14 | VOR RWY 2, Amdt 1.1.
11-Dec-14 | KS | Eureka | Lt. William M. Milliken | 4/7273 | 10/14/14 | VOR/DME RWY 18, Amdt 2A.
11-Dec-14 | FL | Fort Lauderdale | Fort Lauderdale Executive | 4/7983 | 10/09/14 | RNAV (GPS) RWY 26, Amdt 2.
11-Dec-14 | AK | Point Hope | Point Hope | 4/8003 | 10/14/14 | RNAV (GPS) RWY 1, Amdt 1.
11-Dec-14 | AK | Point Hope | Point Hope | 4/8004 | 10/14/14 | RNAV (GPS) RWY 19, Amdt 1.
11-Dec-14 | NY | Akron | Akron | 4/8126 | 10/14/14 | RNAV (GPS) RWY 7, Amdt 2A.
11-Dec-14 | NY | Akron | Akron | 4/8132 | 10/14/14 | RNAV (GPS) RWY 25, Amdt 2A.
12/11/2014 | MT | Circle | Circle Town County | 4/8430 | 10/15/14 | RNAV (GPS) RWY 12, Orig.
12/11/2014 | MT | Circle | Circle Town County | 4/8432 | 10/15/14 | RNAV (GPS) RWY 30, Orig.
11-Dec-14 | CA | Hayward | Hayward Executive | 4/8580 | 10/14/14 | LOC/DME RWY 28L, Amdt 3.
11-Dec-14 | CA | Hayward | Hayward Executive | 4/8581 | 10/14/14 | RNAV (GPS) RWY 28L, Amdt 1.
11-Dec-14 | CA | Bakersfield | Bakersfield Muni | 4/8652 | 10/09/14 | RNAV (GPS) RWY 34, Orig.
11-Dec-14 | CA | Bakersfield | Bakersfield Muni | 4/8656 | 10/09/14 | VOR/DME RWY 34, Amdt 1.
11-Dec-14 | CA | Long Beach | Long Beach/Daugherty Field/ | 4/8673 | 10/15/14 | RNAV (RNP) RWY 12, Amdt 1.
11-Dec-14 | CA | Long Beach | Long Beach/Daugherty Field/ | 4/8674 | 10/15/14 | RNAV (RNP) Y RWY 30, Amdt 1.
11-Dec-14 | CA | Long Beach | Long Beach/Daugherty Field/ | 4/8676 | 10/15/14 | RNAV (GPS) Z RWY 30, Amdt 2.
11-Dec-14 | CO | Grand Junction | Grand Junction Regional | 4/8681 | 10/09/14 | RNAV (RNP) Z RWY 11, Orig.-A.
11-Dec-14 | CA | San Diego/El Cajon | Gillespie Field | 4/8682 | 10/09/14 | RNAV (GPS) RWY 17, Amdt 2A.
11-Dec-14 | AZ | Willcox | Cochise County | 4/8684 | 10/09/14 | RNAV (GPS) RWY 21, Amdt 1.
11-Dec-14 | AZ | Willcox | Cochise County | 4/8685 | 10/09/14 | RNAV (GPS) RWY 3, Amdt 1.A.
11-Dec-14 | TX | Presidio | Presidio Lely Intl | 4/8691 | 10/09/14 | RNAV (GPS) A, Orig.
11-Dec-14 | MO | St Joseph | Rosecrans Memorial | 4/8700 | 10/14/14 | RNAV (GPS) RWY 31, Orig.
11-Dec-14 | CO | Durango | Durango-La Plata County | 4/8707 | 10/14/14 | VOR/DME RWY 3, Amdt 5.
11-Dec-14 | MT | Malta | Malta | 4/8719 | 10/09/14 | RNAV (GPS) RWY 8, Amdt 1.
11-Dec-14 | MT | Malta | Malta | 4/8720 | 10/09/14 | RNAV (GPS) RWY 26, Amdt 1.
11-Dec-14 | MT | Glasgow | Wokal Field/Glasgow Intl | 4/8727 | 10/09/14 | VOR RWY 30, Amdt 4.
11-Dec-14 | MT | Glasgow | Wokal Field/Glasgow Intl | 4/8728 | 10/09/14 | RNAV (GPS) RWY 12, Orig.
11-Dec-14 | MT | Glasgow | Wokal Field/Glasgow Intl | 4/8729 | 10/09/14 | NDB RWY 30, Amdt 2.
11-Dec-14 | MT | Glasgow | Wokal Field/Glasgow Intl | 4/8730 | 10/09/14 | RNAV (GPS) RWY 30, Orig.
11-Dec-14 | MT | Glasgow | Wokal Field/Glasgow Intl | 4/8731 | 10/09/14 | VOR RWY 12, Amdt 3.
11-Dec-14 | ID | Grangeville | Idaho County | 4/8879 | 10/09/14 | RNAV (GPS) RWY 7, Amdt 1.
11-Dec-14 | ID | Grangeville | Idaho County | 4/8880 | 10/09/14 | RNAV (GPS) RWY 25, Amdt 1.
11-Dec-14 | MT | Wolf Point | L M Clayton | 4/8881 | 10/09/14 | RNAV (GPS) RWY 11, Amdt 1.
11-Dec-14 | MT | Wolf Point | L M Clayton | 4/8882 | 10/09/14 | NDB RWY 29, Amdt 4.
11-Dec-14 | MT | Wolf Point | L M Clayton | 4/8883 | 10/09/14 | RNAV (GPS) RWY 29, Amdt 1.
11-Dec-14 | MT | Helena | Helena Rgnl | 4/8886 | 10/09/14 | ILS OR LOC Z RWY 27, Amdt 1.A.
11-Dec-14 | MT | Helena | Helena Rgnl | 4/8887 | 10/09/14 | RNAV (RNP) Y RWY 27, Orig.-C.
11-Dec-14 | MT | Helena | Helena Rgnl | 4/8888 | 10/09/14 | ILS OR LOC Y RWY 27, Amdt 3A.
11-Dec-14 | ID | Coeur D'Alene | Coeur D'Alene—Pappy Boyington Field | 4/9214 | 10/14/14 | VOR/DME RWY 2, Amdt 2A.
11-Dec-14 | ID | Coeur D'Alene | Coeur D'Alene—Pappy Boyington Field | 4/9215 | 10/14/14 | RNAV (GPS) RWY 6, Orig.-B.
11-Dec-14 | MT | Glendive | Dawson Community | 4/9442 | 10/09/14 | NDB RWY 12, Amdt 4B.
11-Dec-14 | MT | Glendive | Dawson Community | 4/9443 | 10/09/14 | RNAV (GPS) RWY 30, Orig.
11-Dec-14 | MT | Glendive | Dawson Community | 4/9444 | 10/09/14 | RNAV (GPS) RWY 12, Orig.
11-Dec-14 | UT | Nephi | Nephi Muni | 4/9595 | 10/09/14 | RNAV (GPS) RWY 17, Orig.
11-Dec-14 | UT | Nephi | Nephi Muni | 4/9596 | 10/09/14 | RNAV (GPS) RWY 35, Orig.
11-Dec-14 | NV | Carson City | Carson | 4/9598 | 10/09/14 | RNAV (GPS) RWY 27, Orig.
11-Dec-14 | UT | Delta | Delta Muni | 4/9599 | 10/09/14 | RNAV (GPS) RWY 35, Amdt 1.A.
11-Dec-14 | UT | Delta | Delta Muni | 4/9600 | 10/09/14 | RNAV (GPS) RWY 17, Amdt 1.A.
11-Dec-14 | OR | Astoria | Astoria Rgnl | 4/9638 | 10/09/14 | RNAV (GPS) RWY 8, Orig.
11-Dec-14 | OR | Baker City | Baker City Muni | 4/9676 | 10/09/14 | RNAV (GPS) RWY 13, Amdt 1.B.
11-Dec-14 | UT | Brigham City | Brigham City | 4/9715 | 10/09/14 | RNAV (GPS) RWY 35, Amdt 2A.
11-Dec-14 | WA | Arlington | Arlington Muni | 4/9881 | 10/14/14 | RNAV (GPS) RWY 34, Orig.
11-Dec-14 | WA | Arlington | Arlington Muni | 4/9882 | 10/14/14 | LOC RWY 34, Amdt 5.
11-Dec-14 | WA | Arlington | Arlington Muni | 4/9883 | 10/14/14 | NDB RWY 34, Amdt 4.
11-Dec-14 | WY | Cheyenne | Cheyenne Rgnl/Jerry Olson Field | 4/9896 | 10/09/14 | NDB RWY 27, Amdt 1.5.
11-Dec-14 | WA | Renton | Renton Muni | 4/9898 | 10/14/14 | RNAV (GPS) Y RWY 16, Amdt 4.
11-Dec-14 | WA | Renton | Renton Muni | 4/9899 | 10/14/14 | RNAV (GPS) Z RWY 16, Amdt 2.
11-Dec-14 | WY | Powell | Powell Muni | 4/9943 | 10/14/14 | RNAV (GPS) RWY 13, Orig.
11-Dec-14 | WY | Powell | Powell Muni | 4/9950 | 10/14/14 | NDB RWY 31, Amdt 2.
11-Dec-14 | WY | Powell | Powell Muni | 4/9951 | 10/14/14 | RNAV (GPS) RWY 31, Orig.
11-Dec-14 | WY | Worland | Worland Muni | 4/9952 | 10/14/14 | RNAV (GPS) RWY 34, Orig.-A.
11-Dec-14 | WY | Worland | Worland Muni | 4/9953 | 10/14/14 | RNAV (GPS) RWY 16, Orig.-A.
11-Dec-14 | WA | Yakima | Yakima Air Terminal/McAllister Field | 4/9954 | 10/14/14 | RNAV (RNP) Z RWY 27, Orig.-A.
11-Dec-14 | WA | Yakima | Yakima Air Terminal/McAllister Field | 4/9958 | 10/14/14 | COPTER NDB RWY 27, Amdt 2.
11-Dec-14 | WA | Yakima | Yakima Air Terminal/McAllister Field | 4/9959 | 10/14/14 | RNAV (RNP) RWY 9, Orig.-A.
11-Dec-14 | WA | Yakima | Yakima Air Terminal/McAllister Field | 4/9961 | 10/14/14 | RNAV (GPS) W RWY 27, Amdt 1.
11-Dec-14 | WA | Yakima | Yakima Air Terminal/McAllister Field | 4/9964 | 10/14/14 | RNAV (GPS) X RWY 27, Amdt 1.A.
11-Dec-14 | WA | Yakima | Yakima Air Terminal/McAllister Field | 4/9966 | 10/14/14 | RNAV (RNP) Y RWY 27, Orig.-A.
11-Dec-14 | UT | Provo | Provo Muni | 4/9969 | 10/14/14 | ILS OR LOC/DME RWY 13, Amdt 2.
11-Dec-14 | UT | Provo | Provo Muni | 4/9971 | 10/14/14 | RNAV (GPS) RWY 13, Amdt 2.
11-Dec-14 | WY | Worland | Worland Muni | 4/9993 | 10/14/14 | VOR RWY 16, Amdt 6A.

[FR Doc. 2014-28234 Filed 12-2-14; 8:45 am]

BILLING CODE 4910-13-P